DEPARTMENT OF HEALTH AND HUMAN SERVICES

Administration for Children and Families

[0970-0490]

Submission for OMB Review; Generic Program-Specific Performance Progress Report

AGENCY: Office of Planning, Research, and Evaluation, Administration for Children and Families, HHS.

ACTION: Request for public comments.

SUMMARY: This notice describes the proposal to extend data collection under the Administration for Children and Families (ACF) Generic Program-Specific Performance Progress Report (PPR) (0970-0490). This overarching generic currently allows ACF program offices to collect performance and progress data from recipients and sub-recipients who receive funding from ACF under a discretionary grant or cooperative agreement. This generic mechanism provides the opportunity for ACF program offices to tailor requests for performance and progress data to specific funding recipients. ACF is proposing to include performance and progress data reporting for mandatory funding recipients in addition to discretionary funding recipients. ACF is also requesting an increase in burden.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION:

Description: ACF is primarily a grant-making agency that promotes the economic and social well-being of families, children, individuals and communities with partnerships, funding, guidance, training and technical assistance.

Prior to the use of this generic program-specific PPR, a standard ACF PPR (#0970-0406) was used for all ACF discretionary grant and cooperative agreement awards for post award reporting. Historically, on the standard ACF PPR form, ACF required grantees to only respond to a common set of broad questions, which often solicited qualitative or incomplete information. This one-size-fits-all approach did not adequately collect the specific data needed for particular grant programs or allow program offices to assess continuous quality improvement. Different grant programs vary in purpose, target population, and activities. Therefore, a need for program offices to customize performance measurements was identified and the generic program-specific PPR was developed. Non-discretionary funding recipients have historically provided performance and progress data through program-specific information collection requests. When subject to the Paperwork Reduction Act, these collections have been approved through full information collection requests.

ACF program offices have provided feedback that the ability to efficiently customize performance measurements would also be helpful for these funding recipients and therefore, ACF would like to expand this generic to cover these non-discretionary funding recipients as well.

ACF program offices have benefited from the ability to create and use a program-specific PPR that is more effective and includes specific data elements that reflects a specific program's indicators, demographics, priorities and objectives.

A generic program-specific PPR that can be tailored for program-specific needs allows program offices to collect useful data in a uniform and systematic manner. The reporting format allows program offices to gather uniform program performance data from each grantee, allowing aggregation at the program level to calculate outputs and outcomes, providing a snapshot and allowing for longitudinal analysis.

Data from a tailored program-specific PPR that demonstrates a program's successes and challenges have been useful for accountability purposes, such as required reports to Congress. Moreover, it has been useful for program management and oversight, such as identifying grantees' technical assistance needs and ensuring compliance with federal and programmatic regulations and policies. To review currently approved PPRs under this generic, see: https://www.reginfo.gov/public/do/PRAICList?ref_nbr=202206-0970-004.

Respondents: ACF funding recipients.

Annual Burden Estimates: ACF is requesting an increase in burden account for the potential use by non-discretionary programs and to reflect use over the past 3 years and anticipated use in the next 3 years.

Instrument | Total number of respondents | Total number of responses per respondent | Average burden hours per response | Total burden hours
Program Specific PPRs | 900 | 3 | 6 | 16,200

John M. Sweet Jr.,
ACF/OPRE Certifying Officer.

[FR Doc. 2023-01762 Filed 1-27-23; 8:45 am]

BILLING CODE 4184-79-P